DEPARTMENT OF TRANSPORTATION

Office of the Secretary

Aviation Proceedings, Agreements Filed the Week Ending November 23, 2007

The following Agreements were filed with the Department of Transportation under the Sections 412 and 414 of the Federal Aviation Act, as amended (49 U.S.C. 1383 and 1384) and procedures governing proceedings to enforce these provisions. Answers may be filed within 21 days after the filing of the application.

Docket Number: DOT-OST-2007-0080.

Date Filed: November 21, 2007.

Parties: Members of the International Air Transport Association.

Subject: PSC/RESO/138 dated October 30, 2007, Expedited Resolutions & Recommended Practice, Intended effective dates: 1 January 2008, 1 February 2008 and 1 May 2008.

Renee V. Wright,
Program Manager, Docket Operations, Federal Register Liaison.

[FR Doc. E8-5344 Filed 3-17-08; 8:45 am]

BILLING CODE 4910-9X-P